ENVIRONMENTAL PROTECTION AGENCY

[FRL-6903-1]

Science Advisory Board; Notification of Public Advisory Committee Meeting

Pursuant to the Federal Advisory Committee Act, Public Law 92-463, notice is hereby given that the Environmental Engineering Committee of the US EPA Science Advisory Board (SAB), will meet December 5-7, 2000 in conference room 6530, USEPA, Ariel Rios Building North, 1200 Pennsylvania Avenue, NW, Washington, DC 20004. The meeting will begin by 8:30 a.m. on December 5 and adjourn no later than 4:00 p.m. on December 7. All times noted are Eastern Standard Time. The meeting is open to the public, however, seating is limited and available on a first come basis. Important Notice: Documents that are the subject of SAB reviews are normally available from the originating EPA office and are not available from the SAB Office—information concerning availability of documents from the relevant Program Office is included below.

Purpose of the meeting: At this meeting, the Committee will consider for approval the report of the Natural Attenuation Research Subcommittee. The Subcommittee reviewed the present and proposed natural attenuation research program of EPA's Office of Research and Development (ORD) so that ORD can refine its plans and programs on this topic. This activity began with a conference call meeting on January 26th conference call meeting, included a face-to-face meeting August 14-15, 2000; the most recent meeting was October 25, 2000. Background, including the availability of review materials, will be found in previous notices. (The most important of these is 65 FR 1866-1867, January 12, 2000).

The Committee will also consider potential FY2001 activities. The Agency has requested a review of the Surface Impoundments Study for the Office of Solid Waste and a consultation on sustainability research for the Office of Research and Development. The Committee will consider whether to use the draft report of the Science Advisory Board's Risk Reduction Options Subcommittee as an input to a potential initiative on risk reduction.

The Committee has also requested briefings on various Agency topics. The exact briefings depend upon the availability of the speakers, but may include: contaminated sediments, the environmental impacts of natural hazards, industrial ecology, and the information needs of risk managers.

Availability of materials: A copy of the Natural Attenuation draft and a draft meeting agenda will be available on the SAB website (www.epa.gov/sab) approximately two weeks prior to the meeting.

For further information: Any member of the public wishing further information concerning this meeting or wishing to submit brief oral comments (10 minutes or less) must contact Kathleen White Conway, Designated Federal Officer, Science Advisory Board (1400A), U.S. Environmental Protection Agency, 1200 Pennsylvania Avenue, NW, Washington, DC 20460; telephone (202) 564-4559; FAX (202) 501-0582; or via e-mail at conway.kathleen@epa.gov. Requests for oral comments must be in writing (e-mail, fax or mail) and received by Kathleen White Conway no later than noon Eastern Standard Time on November 28.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General information: Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting access: Individuals requiring special accommodation at this meeting, including wheelchair access to the conference room, should contact Ms. Conway at least five business days prior to the meeting so that appropriate arrangements can be made.

Dated: November 9, 2000.
Donald G. Barnes,
Staff Director, Science Advisory Board.

[FR Doc. 00-29507 Filed 11-16-00; 8:45 am]

BILLING CODE 6560-50-P